FEDERAL COMMUNICATIONS COMMISSION

Notice of Public Information Collection(s) Being Reviewed by the Federal Communications Commission for Extension Under Delegated Authority 5 CFR 1320 Authority, Comments Requested

February 26, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments on or before May 6, 2002.

ADDRESSES: Direct all comments to Les Smith, Federal Communications Commission, Room 1-A804, 445 12th Street, SW., Washington, DC 20554, or via the Internet to lesmith@fcc.gov.

FOR FURTHER INFORMATION CONTACT: For additional information or copies of the information collections contact Les Smith at 202-418-0217 or via the Internet at lesmith@fcc.gov.

SUPPLEMENTARY INFORMATION: OMB Control Number: 3060-0236.

Title: Section 74.703, Interference.

Form Number: N/A.

Type of Review: Extension of currently approved collection.

Respondents: Business or other for-profit.

Number of Respondents: 10.

Estimated Time per Response: 2 hours.

Frequency of Response: Reporting, on occasion.

Total Annual Burden: 20.

Total Annual Costs: $12,000.

Needs and Uses: 47 CFR 74.703(f) requires licensees of low power TV or TV translator stations causing interference to other stations to submit a report to the FCC detailing the nature of interference, source of interfering signals, and remedial steps taken to eliminate the interference. This report is to be submitted after operation of the station has resumed. The data is used by FCC staff to determine that the licensee has eliminated all interference caused by operation of their station.

OMB Control Number: 3060-0248.

Title: Section 74.751, Modification of Transmission Systems.

Form Number: None.

Type of Review: Extension of currently approved collection.

Respondents: Business or other for-profit.

Number of Respondents: 400.

Estimated Time Per Response: 0.5 hours.

Frequency of Response: Recordkeeping; On occasion reporting requirements.

Total Annual Burden: 200.

Total Annual Costs: None.

Needs and Uses: 47 CFR 74.751(c) requires licensees of low power TV or TV translator stations to send written notification to the FCC of equipment changes which may be made at licensee's discretion without the use of a formal application. Section 74.751(d) requires that licensees of low power TV or TV translator stations place in the station records a certification that the installation of new or replacement transmitting equipment complies in all respects with the technical requirements of this section and the station authorization. The notifications and certifications of equipment changes are used by FCC staff to assure that the equipment changes made are in full compliance with the technical requirements of this section and the station authorizations and will not cause interference to other authorized stations.

OMB Control Number: 3060-0404.

Title: Application for an FM Translator or FM Booster Station License.

Form Number: FCC 350.

Type of Review: Extension of currently approved collection.

Respondents: Business or other for-profit entity.

Number of Respondents: 350.

Estimated Time per Response: 1.0 hours.

Total Annual Burden: 350.

Total Annual Costs: 24,150.

Needs and Uses: Licensees and permittees of FM Translator or FM Booster stations are required to file FCC Form 350 to obtain a new or modified station license. The data are used by FCC staff to confirm that the station has been built to terms specified in the outstanding construction permit. Data are then extracted from FCC 350 for inclusion in the subsequent license to operate the station.

OMB Control Number: 3060-0407.

Title: Section 73.3598, Period of Construction.

Form Number: N/A.

Type of Review: Extension of currently approved collection.

Respondents: Business or other for-profit entities; Not-for-profit institutions.

Number of Respondents: 100.

Estimate Time per Response: 0.75-3.0 hours.

Frequency of Response: On occasion reporting requirements.

Total Annual Burden: 131 hours.

Total Annual Cost: $7,000.

Needs and Uses: When a permit is subject to tolling because construction is encumbered due to an act of God, or when a construction permit is the subject of administrative or judicial review, Section 73.3598 requires a permittee to notify the Commission as promptly as possible and, in any event, within 30 days, and to provide supporting documentation. Tolling resulting from an act of God will normally cease six months from the date of the notification. A permittee must also notify the Commission promptly when a relevant administrative or judicial review is resolved. Any construction permit for which construction has not been completed shall be automatically forfeited upon expiration of the construction permit. The data are used by FCC staff to ensure that legitimate obstacles are preventing permittees from the construction of broadcast facilities.

OMB Control Number: 3060-0886.

Title: Section 73.3534, Period of Construction for ITFS Construction Permits and Requests for Extension Thereof.

Form Number: N/A.

Type of Review: Extension of currently approved collection.

Respondents: Not-for profit institutions; and State, local or tribal government.

Number of Respondents: 610.

Estimated Time per Response: 1.0 hours.

Frequency of Response: On occasion reporting requirements.

Total Annual Burden: 519 hours.

Total Annual Cost: $18,300.

Needs and Uses: 47 CFR Section 73.3534 allows permittees to request an extension of time to construct an Instructional Television Fixed Station (ITFS). This request should include a specific and detailed showing that the failure to complete construction was due to causes not under the control of the permittee. An extension of time to construct will be limited to a period of no more than 6 months. Any construction permit for which construction has not been completed shall be automatically forfeited upon expiration of the construction permit. The data are used by FCC staff to ensure that legitimate obstacles are preventing permittees from the construction of ITFS facilities.

Federal Communications Commission.
William F. Caton,
Acting Secretary.

[FR Doc. 02-5276 Filed 3-5-02; 8:45 am]

BILLING CODE 6712-01-P